FEDERAL COMMUNICATIONS COMMISSION

[GN Docket No. 00-185; FCC 00-355]

Inquiry Concerning High-Speed Access to the Internet Over Cable and Other Facilities

AGENCY: Federal Communications Commission.

ACTION: Notice of inquiry.

SUMMARY: On September 28, 2000, the Commission released a Notice of Inquiry in this docket seeking comment on issues surrounding high-speed access to the Internet provided to subscribers using cable television infrastructure, or so-called “cable modem services.” The Commission inquires into what regulatory treatment, if any, should apply to cable modem services and the cable modem platform used in providing such services, and what impact such treatment will have on other providers of high-speed services. The underlying purpose of issuing this Notice of Inquiry is to create a national legal and policy framework for cable modem service that will foster competitive deployment of high-speed services by all providers and instill a degree of regulatory stability that will encourage investment in all high-speed networks. In this proceeding, the Commission will examine whether to continue its present market-based approach and whether and how to introduce a national policy framework for regulating high-speed services.

DATES: Comment must be filed on or before November 27, 2000. Reply comment must be filed on or before December 26, 2000.

ADDRESSES: Parties who choose to file comments or reply comments should file an original and four copies of each filing with the Commission's Secretary, Magalie Roman Salas, Office of the Secretary, Federal Communications Commission, Room TW-B204, 445 12th St. SW., Washington, DC 20554. Parties should also serve: (1) Johanna Mikes, Common Carrier Bureau, 445 12th Street, SW., Room 5-C163, Washington, DC 20554; (2) Christopher Libertelli, Common Carrier Bureau, 445 12th Street SW., Room 5-C264, Washington, DC 20554; (3) Carl Kandutsch, Cable Services Bureau, 445 12th Street, SW., Room 3-A832, Washington, DC 20554; (4) Douglas Sicker, Office of Engineering and Technology, 445 12th Street, SW., Room 7-A325, Washington DC 20554; (5) Robert Cannon, Office of Plans & Policy, 445 12th Street, SW., Room 7-B410, Washington, DC 20554; and (6) the Commission's copy contractor, International Transcription Service, Inc. (ITS), 445 12th Street, SW., CY-B402, Washington, DC 20554, (202) 857-3800, with copies of any documents filed in this proceeding.

FOR FURTHER INFORMATION CONTACT: Johanna Mikes or Christopher Libertelli, Attorneys, Policy and Program Planning Division, Common Carrier Bureau, at (202) 418-1580, or via the Internet at jmikes@fcc.gov or clibertelli@fcc.gov, respectively; Carl Kandutsch, Cable Services Bureau, at (202) 418-7200; Robert Cannon, Office of Plans and Policy, at (202) 418-2030; and Douglas Sicker, Office of Engineering and Technology, at (202) 418-2478.

SUPPLEMENTARY INFORMATION: This document is a brief description of the Commission's Notice of Inquiry adopted September 28, 2000, and released September 28, 2000. The full text of this Notice of Inquiry is available for inspection and copying during normal business hours in the FCC Reference Information Center, CY-A257, 445 12th Street, SW., Washington, DC 20554. The full text also may be obtained through the World Wide Web, at http://www.fcc.gov/ccb/Notices/index6.html; or may be purchased from the Commission's copy contractor, International Transcription Service, Inc. (ITS), CY B-400, 445 12th Street, SW., Washington, DC. Further information may also be obtained by calling the Common Carrier's TTY number: (202) 418-0484.

Synopsis of the Notice of Inquiry

1. The purpose of the Notice of Inquiry is to develop a factual record regarding the high-speed services provided by cable operators and the type of access sought by unaffiliated Internet Service Providers (ISPs), as well as the extent to which such access is necessary to benefit consumers or otherwise achieve desired policy goals. The Commission invites comments on alternative approaches to classifying cable modem service and the cable modem platform under the Communications Act and the implications of adopting each such classification.

2. The Commission seeks comment on various issues related to “open access,” including how to define the concept, what initiatives have taken place to date, and how market-based and regulatory approaches may affect the availability of high-speed services. The Notice of Inquiry asks whether achieving open access is a desirable policy goal and, if so, whether the Commission's existing policy of regulatory restraint will adequately achieve open access or whether the Commission should adopt a regulatory, or prescriptive, approach.

3. It also inquires whether the Commission's legal and policy framework for cable modem service or the cable modem platform should apply to all providers of high-speed services. The Notice of Inquiry invites comment on technical and operations concerns associated with achieving open access, and asks whether the Commission should pursue any further course of action, such as continuing its current approach or exercising its rulemaking or forbearance authority.

Federal Communications Commission.
Magalie Roman Salas,
Secretary.

[FR Doc. 00-25983 Filed 10-10-00; 8:45 am]

BILLING CODE 6712-01-P